DEPARTMENT OF TRANSPORTATION

Federal Aviation Administration

Object Oriented Technology in Aviation Workshop #2

AGENCY: Federal Aviation Administration (FAA), DOT.

ACTION: Notice of meeting.

SUMMARY: The FAA issues this notice to advise the public of the second joint FAA/NASA workshop to discuss Object Oriented Technology (OOT) in Aviation. This notice announces the dates, times, location, and registration information for the workshop.

DATES: The workshop is scheduled for March 25th through March 27th, 2003, starting at 8:30 a.m., and ending at 5 p.m. daily, except for the last day when the workshop will end at 12:30 p.m.

ADDRESSES: The workshop will be held at the Sheraton Norfolk Waterside Hotel, 777 Waterside Drive, Norfolk, VA, 23510 USA, Telephone (757) 622-6664.

FOR FURTHER INFORMATION CONTACT: Kelly Hayhurst, NASA Langley Research Center; e-mail k.j.hayhurst@larc.nasa.gov; telephone (757) 864-6215; Website http://shemesh.larc.nasa.gov/foot/.

SUPPLEMENTARY INFORMATION: The agenda for the workshop includes:

• Opening session (welcome and workshop overview, workshop vision).

• Overview of OOT Handbook and general issues.

• Breakout sessions covering:

—Single inheritance and dynamic dispatch;

—Tools;

—Reuse and dead/deactivated code;

—Overloading;

—Type Conversion;

—Templates;

—Inlining;

—Traceability;

—Multiple inheritance;

—General OOT Issues and other considerations.

• Discussion of breakout session results.

• Closing session (future activities, adjournment).

This workshop is open to anyone interested in OOT issues related to developing or approving aviation software products that comply with RTCA Document No. RTCA/DO-178B, Software Considerations in Airborne Systems and Equipment Certification. Attendees wishing to submit comments concerning OOT issues should forward them to the named person listed under FOR FURTHER INFORMATION CONTACT.

Workshop Registration fee is $100 (USD) if paid by February 28, 2003 and $300 (USD) if paid after that date. Use the following web-site to make your reservations and to obtain additional details pertaining to the workshop: http://shemesh.larc.nasa.gov/foot/. Note that the registration fee includes an evening reception on March 25, as well as a continental breakfast, and refreshments during the morning and afternoon breaks each day of the workshop.

A block of rooms are reserved at the Sheraton Norfolk Waterside Hotel, 777 Waterside Drive, Norfolk, VA, 23510 USA, Telephone (757) 622-6664 or central reservations number (800) 325-3535, at a special rate of $55 (USD) plus taxes per night. To receive the special rate, you must make your reservations by March 7, 2003, and state that you are attending the “Object Oriented Technology Workshop.”

Issued in Washington, DC on January 16, 2003.
Susan J. M. Cabler,
Deputy Manager, Aircraft Engineering Division, Aircraft Certification Service.

[FR Doc. 03-1475 Filed 1-22-03; 8:45 am]

BILLING CODE 4910-13-M